DEPARTMENT OF TRANSPORTATION

Federal Aviation Administration

14 CFR Part 39

[Docket No. FAA-2006-24253; Directorate Identifier 2006-CE-23-AD; Amendment 39-14723; AD 2006-17-02]

RIN 2120-AA64

Airworthiness Directives; GROB-WERKE GMBH & CO KG Model G102 ASTIR CS Sailplanes

AGENCY: Federal Aviation Administration (FAA), DOT.

ACTION: Final rule.

SUMMARY: The FAA supersedes Airworthiness Directive (AD) 84-09-05, which applies to certain GROB-WERKE GMBH & CO KG (previously identified as BURKHART-GROB FLUGZEUGBAU INDUSTRIESTRABE) Model G102 ASTIR CS sailplanes. AD 84-09-05 requires you to install a modified spherical locking bolt and nut in the forward horizontal stabilizer connection to the vertical stabilizer and install new locking pins in the aft connecting plate for the horizontal stabilizer. Since we issued AD 84-09-05, fatigue cracks were found in the modified spherical locking bolt. Consequently, this AD requires you to replace the modified spherical locking bolt, the retaining pins (collar bolts), and associated hardware; add a life limit on the spherical locking bolt and the retaining pins; and repetitively inspect the front and rear horizontal stabilizer attachment. This AD results from mandatory continuing airworthiness information (MCAI) issued by the airworthiness authority for Germany. We are issuing this AD to prevent cracks in the spherical locking bolt, which could result in failure of the horizontal stabilizer connection. This failure could lead to loss of control.

DATES: This AD becomes effective on September 22, 2006.

As of September 22, 2006, the Director of the Federal Register approved the incorporation by reference of certain publications listed in the regulation.

ADDRESSES: For service information identified in this AD, contact GROB Luft-und Raumfahrt, Lettenbachstrasse 9, D-86874 Tussenhausen-Mattsies, Federal Republic of Germany; telephone: 011 49 8268 998139; fax: 011 49 8268 998200; e-mail: productsupport@grob-aerospace.de.

To view the AD docket, go to the Docket Management Facility, U.S. Department of Transportation, 400 Seventh Street, SW., Nassif Building, Room PL-401, Washington, DC 20590-0001 or on the Internet at http://dms.dot.gov. The docket number is FAA-2006-24253; Directorate Identifier 2006-CE-23-AD.

FOR FURTHER INFORMATION CONTACT: Gregory A. Davison, Aerospace Engineer, ACE-112, Small Airplane Directorate, 901 Locust, Room 301, Kansas City, Missouri 64106; telephone: (816) 329-4130; facsimile: (816) 329-4090.

SUPPLEMENTARY INFORMATION:

Discussion

On May 30, 2006, we issued a proposal to amend part 39 of the Federal Aviation Regulations (14 CFR part 39) to include an AD that would apply to certain GROB-WERKE GMBH & CO KG (previously identified as BURKHART-GROB FLUGZEUGBAU INDUSTRIESTRABE) Model G102 ASTIR CS sailplanes. This proposal was published in the Federal Register as a notice of proposed rulemaking (NPRM) on June 6, 2006 (71 FR 32484). The NPRM proposed to supersede AD 84-09-05 with a new AD that would require you to do the following:

• Remove the existing spherical locking bolt, nut, retaining pins (collar bolts), self-locking nut, and the lock washer; and replace with a new spherical locking bolt, P/N 102-3500.21, that has revision letter “b” permanently marked on the bottom of the bolt, a new nut, P/N 102-3510.21, new retaining pins (collar bolts), P/N 102-2142.46, a new self-locking nut, P/N LN9348-M8, and a new lock washer, P/N DIN 6797-10,5PHR;

• Add a life limit on the new spherical locking bolt and the retaining pins; and

• Inspect (repetitively) the front and rear horizontal stabilizer attachment assembly after the initial replacements.

Comments

We provided the public the opportunity to participate in developing this AD. The following presents the comments received on the proposal and FAA's response to each comment:

Comment Issue No. 1: Address the Intent of the AD as It Affects Parts Manufacturer Approval (PMA) Alternatives to the Original Equipment Manufacturer (OEM) Part

The Modification and Replacement Parts Association (MARPA) provides comments to the mandatory continuing airworthiness information (MCAI) AD process pertaining to how the FAA addresses PMA parts. The commenter would like to see the FAA more fully address the intent of the AD as it affects PMA alternatives to the unsafe OEM part.

We acknowledge the need to ensure that unsafe parts are identified and addressed in MCAI-related ADs. For this AD, we use the phrase “or FAA-approved equivalent part number” to address the PMA issue. We are currently examining all aspects of this issue, including input from industry. Once we have made a final determination, we will consider how our policy regarding PMA parts in ADs needs to be revised. We consider that to delay this AD action would be inappropriate since we have determined that an unsafe condition exists and that replacement of certain parts must be accomplished to ensure continued safety.

We have not changed the final rule AD action based on this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Differences Between This AD and the Service Information

The service information specifies using a 20X magnifying glass for doing the inspections. This AD specifies using a dye penetrant method and a 10X magnifying glass for doing the inspections. This difference is because 20X magnifiers are not readily available in the field.

The requirements of this AD take precedence over the provisions in the service information.

Costs of Compliance

We estimate that this AD will affect 56 sailplanes in the U.S. registry.

We estimate the following costs to do the replacements:

Labor cost | Parts cost | Total cost for each sailplane | Total cost on U.S. operators
2 work-hours × $80 per hour = $160 | $253 | $413 | $23,128

We estimate the following costs to do each inspection:

Labor cost | Parts cost | Total cost for each sailplane | Total cost on U.S. operators
2 work-hours × $80 per hour = $160 | Not applicable | $160 | $8,960

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24253; Directorate Identifier 2006-CE-23-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 84-09-05, Amendment 39-4849, and adding the following new AD:

2006-17-02 GROB-WERKE GMBH & CO KG (previously identified as BURKHART-GROB FLUGZEUGBAU INDUSTRIESTRABE): Amendment 39-14723; Docket No. FAA-2006-24253; Directorate Identifier 2006-CE-23-AD.

Effective Date

(a) This AD becomes effective on September 22, 2006.

Affected ADs

(b) This AD supersedes 84-09-05, Amendment 39-4849.

Applicability

(c) This AD affects Model G102 ASTIR CS sailplanes, serial numbers 1001 through 1536, that are certificated in any category.

Unsafe Condition

(d) This AD results from mandatory continuing airworthiness information (MCAI) issued by the airworthiness authority for Germany. We are issuing this AD to prevent cracks in the spherical locking bolt, which could result in failure of the horizontal stabilizer connection. This failure could lead to loss of control.

Compliance

(e) To address this problem, you must do the following:

Actions | Compliance | Procedures
(1) Remove and replace as follows:
(i) Remove the existing retaining pins (collar bolts) and the self-locking nut and replace with new retaining pins, part numbers (P/N) 102-2142.46, and self-locking nut, P/N LN9348-M8 (or FAA-approved equivalent part numbers), on the T-plate; (ii) Remove the existing spherical locking bolt and replace with a new spherical locking bolt, P/N 102-3500.21, that has revision letter “b” permanently marked on the bottom of the bolt (or FAA-approved equivalent part number). Return replaced spherical locking bolts, P/N 102-3500.21, to Grob Systems, Inc., Aircraft Division, 1070 Navajo Drive, Bluffton, Ohio 45817; | Within the next 90 days after September 22, 2006 (the effective date of this AD), unless already done. After doing the replacements, the spherical locking bolt and the retaining pins have a life limit of 10 years and must be replaced at that time | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(iii) Remove the existing nut and replace with a new nut, 102-3510.21 (or FAA-approved equivalent part number); and
(iv) Remove the existing lock washer and replace with a new lock washer, P/N DIN 6797-10,5PHR (or FAA-approved equivalent part number)
(2) Using a dye-penetrant method along with a minimum 10X magnifying glass, repetitively inspect the front and rear horizontal stabilizer attachment assembly for excessive movement, cracks, and/or damage in the spherical locking bolt. This inspection method takes precedence over the procedures outlined in GROB Service Bulletin MSB306-38, dated February 12, 2004 | Initially inspect within the next 100 hours time-in-service (TIS) or at the next annual inspection after the replacement required in paragraph (e)(1) of this AD, whichever occurs first. Repetitively inspect thereafter at 12-month intervals or at intervals not to exceed 100 hours TIS, whichever occurs first | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(3) If, during any inspection required in paragraph (e)(2) of this AD, you find excessive movement:
(i) In the front horizontal stabilizer attachment, you must replace the spherical locking bolt with a new part. | Before further flight after each inspection required in paragraph (e)(2) of this AD. After each replacement, the spherical locking bolt and the retaining pins have a life limit of 10 years and must be replaced at that time | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(ii) In the rear horizontal stabilizer attachment, you must replace the retaining pins with new parts
(iii) In the front and rear horizontal stabilizer attachment after doing the replacement(s) required in paragraph (e)(3)(i) and (e)(3)(ii) of this AD, you must replace the bearings in the stabilizer spar web
(4) If, during any inspection required in paragraph (e)(2) of this AD, you do not find excessive movement in the front and rear horizontal stabilizer attachment:
(i) Inspect the spherical locking bolt for cracks and damage using a dye-penetrant method along with a minimum 10X magnifying glass (ii) If you find cracks or damage on the spherical locking bolt, during the inspection required in paragraph (e)(4)(i) of this AD, you must replace the bolt with a new bolt | Before further flight after each inspection required in paragraph (e)(2) of this AD. After each replacement, the spherical locking bolt and the retaining pins have a life limit of 10 years and must be replaced at that time | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(5) Do not install any spherical locking bolt, P/N 102-3500.21 (or FAA-approved equivalent part number), that does not have revision letter “b” permanently marked on the bottom of the bolt | As of September 22, 2006 (the effective date of this AD) | Not applicable.
(6) 14 CFR 21.303 allows for replacement parts through parts manufacturer approval (PMA). The phrase “or FAA-approved equivalent part number” in this AD is intended to signify those parts that are PMA parts approved through identicality to the design of the part under the type certificate and replacement parts to correct the unsafe condition under PMA (other than identicality). If parts are installed that are identical to the unsafe parts, then the corrective actions of the AD affect these parts also. In addition, equivalent replacement parts to correct the unsafe condition under PMA (other than identicality) may also be installed provided they meet current airworthiness standards, which include those actions cited in this AD | Not applicable | Not applicable.

Note: During ground handling, it has been noted that a tendency exists for the ground crew to move these gliders by using the horizontal stabilizer as a lifting point. This practice may facilitate damage to the stabilizer assembly and should be avoided. See Caution note in GROB Service Bulletin MSB306-38, dated February 12, 2004.

Alternative Methods of Compliance (AMOCs)

(f) The Manager, Standards Office, Small Airplane Directorate, FAA, ATTN: Gregory A. Davison, Aerospace Engineer, ACE-112, Small Airplane Directorate, 901 Locust, Room 301, Kansas City, Missouri 64106; telephone: (816) 329-4130; facsimile: (816) 329-4090, has the authority to approve AMOCs for this AD, if requested using the procedures found in 14 CFR 39.19.

(g) AMOCs approved for AD 84-09-05 are not approved for this AD.

Related Information

(h) German AD Number D-2004-168, dated March 23, 2004, also addresses the subject of this AD.

Material Incorporated by Reference

(i) You must do the actions required by this AD following the instructions in GROB Service Bulletin MSB306-38, dated February 12, 2004, and GROB Service Bulletin MSB306-38/1, dated November 28, 2005. The Director of the Federal Register approved the incorporation by reference of this service bulletin in accordance with 5 U.S.C. 552(a) and 1 CFR part 51. To get a copy of this service information, contact GROB Luft-und Raumfahrt, Lettenbachstrasse 9, D-86874 Tussenhausen-Mattsies, Federal Republic of Germany; telephone: 011 49 8268 998139; fax: 011 49 8268 998200; e-mail: productsupport@grob-aerospace.de. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA-2006-24253; Directorate Identifier 2006-CE-23-AD.

Issued in Kansas City, Missouri, on August 9, 2006.
John R. Colomy,
Acting Manager, Small Airplane Directorate, Aircraft Certification Service.

[FR Doc. E6-13439 Filed 8-17-06; 8:45 am]

BILLING CODE 4910-13-P